DEPARTMENT OF HEALTH AND HUMAN SERVICES

National Institutes of Health

National Institute of Allergy and Infectious Diseases; Amended Notice of Meeting

Notice is hereby given of a change in the meeting of the AIDS Research Advisory Committee, NIAID, September 29, 2003, 1 p.m. to September 30, 2003, 3 p.m., National Institutes of Health, Natcher Building, 45 Center Drive, Conference Room D, Bethesda, MD, 20892 which was published in the Federal Register on August 26, 2003, 68FRN165 page 51290.

The meeting will be held only on September 29, from 1 p.m. to 8:30 p.m. in Conference Room E1/E2, Natcher Building. It will not continue on September 30. The meeting is open to the public.

Dated: September 10, 2003.
LaVerne Y. Stringfield,
Director, Office of Federal Advisory Committee Policy.

[FR Doc. 03-23644 Filed 9-16-03; 8:45 am]

BILLING CODE 4140-01-M